DEPARTMENT OF TRANSPORTATION

Federal Railroad Administration

Notice of Final Agency Actions on Proposed Railroad Project in California on Behalf of the California High Speed Rail Authority

AGENCY: Federal Railroad Administration (FRA), U.S. Department of Transportation (DOT).

ACTION: Notice.

SUMMARY: FRA, on behalf of the California High-Speed Rail Authority (Authority), is issuing this notice to announce actions taken by the Authority that are final. By this notice, FRA is advising the public of the time limit to file a claim seeking judicial review of the actions. The actions relate to the Stockton Diamond Grade Separation Project (Project). These actions grant approvals for project implementation pursuant to the National Environmental Policy Act (NEPA) and other laws, regulations, and executive orders.

DATES: A claim seeking judicial review of the agency actions on the Project will be barred unless the claim is filed on or before August 21, 2024. If Federal law later authorizes a time period of less than 2 years for filing such claim, then that shorter time period applies.

FOR FURTHER INFORMATION CONTACT:

For the Authority: Scott Rothenberg, NEPA Assignment Manager, Environmental Services, California High-Speed Rail Authority, telephone: (916) 403-6936; email: Scott.Rothenberg@hsr.ca.gov.

For San Joaquin Regional Rail Commission (SJRRC) (Project Sponsor): Dan Leavitt, Manager of Regional Initiatives, SJRRC, telephone: (209) 944-6266; email: dan@acerail.com.

For FRA: Lana Lau, Supervisory Environmental Protection Specialist, FRA, telephone: (202) 923-5314; email: Lana.Lau@dot.gov.

SUPPLEMENTARY INFORMATION: Effective July 23, 2019, FRA assigned, and the State of California acting through the Authority assumed, environmental responsibilities for the California High-Speed Rail (HSR) System pursuant to 23 U.S.C. 327.¹ Notice is hereby given that the Authority has taken final agency actions subject to 23 U.S.C. 139(l)(1); 49 U.S.C. 24201(a)(4) by issuing approvals for the Project. The Project Sponsor, SJRRC proposes to grade separate (via a flyover) a major rail intersection just south of downtown Stockton known as the Stockton Diamond. This intersection accommodates freight and passenger rail lines and is purportedly the busiest, most congested railway junction in California. Once completed, the grade separation is expected to relieve train backups, delays, vehicle/rail/bicycle and pedestrian conflicts, air quality impacts and increased costs, among other impacts. The SJRRC and the Authority have selected the Build Alternative (Alternative 2) identified in the Final Environmental Assessment (Final EA) for the Project because the Selected Alternative best satisfies the Purpose and Need for the Project. The actions by the Authority, and the laws under which such actions were taken, are described in the Finding of No Significant Impact (FONSI) and Final EA for the Project, approved on July 28, 2022. The FONSI, Final EA, and other documents are available online in PDF at SJRRC's website (stocktondiamond.com/resources) or by calling (209) 235-0133 or emailing info@StocktonDiamond.com. A printed copy of these documents is available at the Authority's office in Sacramento. The notice applies to the FONSI, Final EA, and all other Federal agency decisions with respect to the Project as of the issuance date of this notice and all laws under which such actions were taken, including but not limited to:

¹ Consistent with the Memorandum of Understanding between the Authority and FRA, which assigns FRA's NEPA responsibilities to the Authority, the Authority has assumed NEPA responsibilities for the ACEforward Project within the Altamont Corridor Express (ACE) System. The ACEforward Project is a phased passenger rail improvement program to reduce travel time and improve service reliability and passenger facilities along the existing Stockton to San Jose rail corridor. Long-term SJRRC goals for the ACE System include a suite of projects, such as the Stockton Diamond Grade Separation Project, that can connect an improved ACE service within the future California High-Speed Rail System Phase 2 extension to Sacramento.

1. NEPA;

2. Council on Environmental Quality regulations;

3. Fixing America's Surface Transportation Act (FAST Act);

4. Department of Transportation Act of 1966, Section 4(f);

5. Land and Water Conservation Fund (LWCF) Act of 1965, Section 6(f);

6. Clean Air Act Amendments of 1990;

7. Clean Water Act of 1977 and 1987;

8. Endangered Species Act of 1973;

9. Migratory Bird Treaty Act;

10. National Historic Preservation Act of 1966, as amended;

11. Executive Order 11990, Protection of Wetlands;

12. Executive Order 11988, Floodplain Management;

13. Executive Order 12898, Federal Actions to Address Environmental Justice in Minority Populations and Low-Income Populations; and

14. Executive Order 13112, Invasive Species.

Issued in Washington, DC.
Jamie P. Rennert,
Director, Office of Infrastructure Investment.

[FR Doc. 2022-17956 Filed 8-19-22; 8:45 am]

BILLING CODE 4910-06-P